NATIONAL ARCHIVES AND RECORDS ADMINISTRATION

Nixon Presidential Historical Materials; Opening of Materials

AGENCY: National Archives and Records Administration.

ACTION: Notice of opening of materials.

SUMMARY: This notice announces the opening of additional files from the Nixon Presidential historical materials. Notice is hereby given that, in accordance with section 104 of Title I of the Presidential Recordings and Materials Preservation Act (PRMPA, 44 U.S.C. 2111 note) and section 1275.42(b) of the PRMPA Regulations implementing the Act (36 CFR Part 1275), the agency has identified, inventoried, and prepared for public access integral file segments among the Nixon Presidential historical materials.

DATES: The National Archives and Records Administration (NARA) intends to make the materials described in this notice available to the public beginning May 26, 2004. In accordance with 36 CFR 1275.44, any person who believes it necessary to file a claim of legal right or privilege concerning access to these materials should notify the Archivist of the United States in writing of the claimed right, privilege, or defense before May 5, 2004.

ADDRESSES: The materials will be made available to the public at the National Archives at College Park research room, located at 8601 Adelphi Road, College Park, Maryland beginning at 8:45. Researchers must have a NARA researcher card, which they may obtain when they arrive at the facility.

Petitions asserting a legal or constitutional right or privilege which would prevent or limit access must be sent to the Archivist of the United States, National Archives at College Park, 8601 Adelphi Road, College Park, Maryland 20740-6001.

FOR FURTHER INFORMATION CONTACT: Karl Weissenbach, Director, Nixon Presidential Materials Staff, 301-837-3290.

SUPPLEMENTARY INFORMATION: The integral file segments of textual materials to be opened on May 26, 2004, consist of 15 cubic feet. The White House Central Files Unit is a permanent organization within the White House complex that maintains a central filing and retrieval system for the records of the President and his staff. Some of the materials are from the White House Central Files, Subject Files. The Subject Files are based on an alphanumerical file scheme of 61 primary categories. Listed below are the integral file segments from the White House Central Files, Subject Files in this opening.

1. Subject Category: Volume: 3 cubic feet.

Federal Government (FG)

FG 158 National Advisory Council on Education of Disadvantaged Children

FG 159 National Advisory Council on Educational Professions Development

FG 160 National Advisory Council on Extension and Continuing Education

FG 161 National Advisory Council on International Monetary and Financial Policies

FG 162 National Advisory Council on Supplementary Centers and Services

FG 225 United Planning Organization

FG 226 United Service Organization

FG 227 United States Advisory Commission on Information

FG 228 United States Advisory Commission on International Educational and Cultural Affairs

FG 229 United States Civil Service Commission

Judicial Legal (JL) Pardon Files (1973)

National Defense (ND)

2. Transcripts of Telephone Conversations: 10 Cubic Feet.

Approximately 20,000 pages of transcripts of Dr. Henry A. Kissinger's telephone conversations created during his tenure as Assistant to President Nixon's National Security Advisor and Security of State. These telephone transcripts proposed for release are from January 21, 1969 through August 8, 1974.

3. White House Central Files, Name Files: Volume: 1 Cubic Feet.

Nine files are from the White House Central Files, Name Files. The Name Files were used for routine materials filed alphabetically by the name of the correspondent; copies of documents in the Name Files are usually filed by subject in the Subject Files.

The Name Files relating to the following 9 individuals will be made available with this opening.

Ailes, Roger; Brooke, Edward W.; Emenegger, Robert; Felci, Thomas; Green, Edith; Kerry, John; Krusten, Eva and Maarja; Zagorewicz, Thaddeus A.

4. Previously Restricted Materials Volume: 1 cubic foot

A number of documents which were previously withheld from public access have been re-reviewed for release and or declassified under the provisions of Executive Order 12958, or in accordance with 36 CFR 1275.56 (Public Access Regulations).

Public access to some of the items in the file segments listed in this notice will be restricted as outlined in 36 CFR 1275.50 or 1275.52 (Public Access Regulations).

Dated: March 30, 2004.
John W. Carlin,
Archivist of the United States.

[FR Doc. 04-7568 Filed 4-2-04; 8:45 am]

BILLING CODE 7515-01-P